DEPARTMENT OF TRANSPORTATION

Federal Aviation Administration

14 CFR Part 39

[Docket No. 2003-NM-67-AD]

RIN 2120-AA64

Airworthiness Directives; Empresa Brasileira de Aeronautica S.A. (EMBRAER) Model EMB-135 and EMB-145 Series Airplanes

AGENCY: Federal Aviation Administration, DOT.

ACTION: Proposed rule; withdrawal.

SUMMARY: This action withdraws a notice of proposed rulemaking (NPRM) that proposed a new airworthiness directive (AD), applicable to certain EMBRAER Model EMB-135 and EMB-145 series airplanes. That action would have required an inspection of the base and support surfaces of the glide slope antenna and of certain electrical connectors of the navigation system, and applicable corrective actions if necessary. Since the issuance of the NPRM, we have received new data showing that the proposed inspection and corrective actions will not eliminate the display of erroneous or misleading information to the flightcrew in the cockpit. However, we have been informed that the navigation system manufacturer has developed effective corrective actions to address the unsafe condition identified in the NPRM. Since we issued the NPRM, we have issued other rulemaking, which provides corrective actions for the identified unsafe condition. Accordingly, the proposed rule is withdrawn.

FOR FURTHER INFORMATION CONTACT: Todd Thompson, Aerospace Engineer, International Branch, ANM-116, FAA, Transport Airplane Directorate, 1601 Lind Avenue SW., Renton, Washington 98057-3356; telephone (425) 227-1175; fax (425) 227-1149.

SUPPLEMENTARY INFORMATION: A proposal to amend part 39 of the Federal Aviation Regulations (14 CFR part 39) to add a new airworthiness directive (AD), applicable to certain EMBRAER Model EMB-135 and EMB-145 series airplanes, was published in the Federal Register as a Notice of Proposed Rulemaking (NPRM) on March 11, 2004 (69 FR 11549). The proposed rule would have required an inspection of the base and support surfaces of the glide slope antenna and of certain electrical connectors of the navigation system, and applicable corrective actions if necessary. That action resulted from reports of degradation in the performance of the VOR/ILS/MB system due to the presence of moisture, dirt, and corrosion between the base and the support of the glide slope antenna and in the electrical connectors of the navigation system. The proposed actions were intended to prevent the display of erroneous or misleading information to the flightcrew in the cockpit due to degradation in the performance of the VOR/ILS/HM system.

Actions That Occurred Since the NPRM Was Issued

Since the issuance of that NPRM, we have received new data showing that the degradation in the performance of the VOR/ILS/MB system was not caused by dirt and corrosion affecting the glide slope antenna and certain navigation system connectors. The degraded performance was caused by a parasitic oscillation affecting an internal module of the navigation system, and the navigation system manufacturer has provided service information detailing proven corrective actions. Accordingly, we issued AD 2006-22-05 (71 FR 62907, October 27, 2006), which superseded AD 2003-04-06, amendment 39-13054 (68 FR 8539, February 24, 2003). AD 2006-22-05 provides terminating action for the unsafe condition described in AD 2003-04-06, which was also addressed by the previously mentioned NPRM, Docket No. 2003-NM-67-AD. Therefore, that NPRM is redundant.

FAA's Conclusions

Upon further consideration, we have determined that the proposed rule is not necessary. Accordingly, the NPRM is hereby withdrawn.

Withdrawal of this NPRM constitutes only such action, and does not preclude the agency from issuing another action in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 2003-NM-67-AD, published in the Federal Register on March 11, 2004 (69 FR 11549), is withdrawn.

Issued in Renton, Washington, on June 13, 2007.
Ali Bahrami,
Manager, Transport Airplane Directorate, Aircraft Certification Service.

[FR Doc. E7-11928 Filed 6-19-07; 8:45 am]

BILLING CODE 4910-13-P